DEPARTMENT OF HEALTH AND HUMAN SERVICES

National Institutes of Health

National Institute of Allergy and Infectious Diseases; Notice of Closed Meeting

Pursuant to section 10(d) of the Federal Advisory Committee Act, as amended (5 U.S.C. Appendix 2), notice is hereby given of the following meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Allergy and Infectious Diseases Special Emphasis Panel, RFA-05-001 Leadership for HIV/AIDS Clinical Trials Networks: Vaccine.

Date: October 16-18, 2005.

Time: October 16, 2005, 7 p.m. to 6 p.m. October 18, 2005.

Agenda: To review and evaluate grant applications.

Place: Holiday Inn Georgetown, 2101 Wisconsin Avenue, NW., Washington, DC 20007.

Contact Person: Thomas J. Hiltke, PhD, Scientific Review Administrator, Scientific Review Program, Division of Extramural Activities, National Institutes of Health/NIAID, 6700B Rockledge Drive, MSC 7616, Bethesda, MD 20892-7616, 301-496-2550, thiltke@niaid.nih.gov.

Name of Committee: National Institute of Allergy and Infectious Diseases Special Emphasis Panel, RFA-05-001 Leadership for HIV/AIDS Clinical Trials Networks: Microbicides

Date: October 18-20, 2005.

Time: October 18, 2005, 7 p.m. to 6 p.m. October 20, 2005.

Agenda: To review and evaluate grant applications.

Place: Holiday Inn Georgetown, 2101 Wisconsin Avenue, NW., Washington, DC 20007.

Contact Person: Marc L. Lesnick, PhD, Scientific Review Administrator, Scientific Review Program, Division of Extramural Activities, NIAID/NIH/DHHS, Room 3264, 6700B Rockledge Drive, MSC 7616, Bethesda, MD 20892-7616, 301-594-6636, ml436d@nih.gov.

Name of Committee: National Institute of Allergy and Infectious Diseases Special Emphasis Panel, RFA-05-001 Leadership for HIV/AIDS Clinical Trials Networks: Prevention.

Date: October 20-22, 2005.

Time: October 20, 2005, 7 p.m. to 6 p.m. October 22, 2005.

Agenda: To review and evaluate grant applications.

Place: Holiday Inn Georgetown, 2101 Wisconsin Avenue, NW., Washington, DC 20007.

Contact Person: Thomas J. Hiltke, PhD, Scientific Review Administrator, Scientific Review Program, Division of Extramural Activities, National Institutes of Health/NIAID, 6700B Rockledge Drive, MSC 7616, Bethesda, MD 20892-7616, 301-496-2550, thiltke@niaid.nih.gov.

Name of Committee: National Institute of Allergy and Infectious Diseases Special Emphasis Panel, Leadership for HIV/AIDS Clinical Trials Networks.

Date: October 23-25, 2005.

Time: October 23, 2005, 7 p.m. to 6 p.m. October 25, 2005.

Agenda: To review and evaluate grant applications.

Place: Holiday Inn Georgetown, 2101 Wisconsin Avenue, NW., Washington, DC 20007.

Contact Person: Kenneth E. Santora, PhD, Scientific Review Administrator, Scientific Review Program, Division of Extramural Activities, National Institutes of Health/NIAID, 6700B Rockledge Drive, MSC 7616, Bethesda, MD 20892-7616, 301-496-2550, ks216i@nih.gov.

Name of Committee: National Institutes of Allergy and Infectious Diseases Special Emphasis Panel, RFA-05-001 Leadership for HIV/AIDS Clinical Trial Networks: Clinical Optimization.

Date: October 25-27, 2005.

Time: October 25, 2005, 7 p.m. to 6 p.m. October 27, 2005.

Agenda: To review and evaluate grant applications.

Place: Holiday Inn Georgetown, 2101 Wisconsin Avenue, NW., Washington, DC 20007.

Contact Person: Hagit David, PhD, Scientific Review Administrator, Scientific Review Program, Division of Extramural Activities, NIAID/NIH/DHHS, 6700B Rockledge Drive, MSC 7616, Bethesda, MD 20892, (301) 402-4596, hdavid@niaid.nih.gov.

Name of Committee: National Institute of Allergy and Infectious Diseases Special Emphasis Panel, RFA 05-001 Leadership for HIV-AIDS Clinical Trials Network (Adult).

Date: October 27-29, 2005.

Time: October 27, 2005, 8 a.m. to 10 p.m. October 29, 2005.

Agenda: To review and evaluate grant applications.

Place: Holiday Inn Georgetown, 2101 Wisconsin Avenue, NW., Washington, DC 20007.

Contact Person: Tracy A. Shahan, PhD, Scientific Review Administrator, Scientific Review Program, Division of Extramural Activities, National Institutes of Health/NIAID, 6700B Rockledge Drive, MSC 7616, Bethesda, MD 20892-7616, 301-496-2606, tshahan@niaid.nih.gov.

(Catalogue of Federal Domestic Assistance Program Nos. 93.855, Allergy, Immunology, and Transplantation Research; 93.856, Microbiology and Infectious Diseases Research, National Institutes of Health, HHS)

Dated: September 16, 2005.
Anthony M. Coelho, Jr.,
Acting Director, Office of Federal Advisory Committee Policy.

[FR Doc. 05-20220 Filed 10-6-05; 8:45 am]

BILLING CODE 4140-01-M